DEPARTMENT OF EDUCATION

[Docket No.: ED-2022-SCC-0097]

Agency Information Collection Activities; Submission to the Office of Management and Budget for Review and Approval; Comment Request; International Computer and Information Literacy Study (ICILS 2023) Main Study Questionnaire Revision

AGENCY: Institute of Education Sciences (IES), Department of Education (ED).

ACTION: Notice.

SUMMARY: In accordance with the Paperwork Reduction Act (PRA) of 1995, the Department is proposing a revision of a currently approved information collection request (ICR).

DATES: Interested persons are invited to submit comments on or before January 13, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, 202-245-6347.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: International Computer and Information Literacy Study (ICILS 2023) Main Study Questionnaire Revision.

OMB Control Number: 1850-0929.

Type of Review: A revision of a currently approved ICR.

Respondents/Affected Public: Individuals and households.

Total Estimated Number of Annual Responses: 9,860.

Total Estimated Number of Annual Burden Hours: 5,055.

Abstract: The International Computer and Information Literacy Study (ICILS) is a computer-based international assessment of eighth-grade students' computer and information literacy (CIL) skills. ICILS was first administered internationally in 2013 in 21 education systems and again in 2018, when the United States participated for the first time. Our participation in this study has provided data on students' skills and experience using technology to investigate, create, and communicate, and provided a comparison of U.S. student performance and technology access and use with those of the international peers. The next administration of ICILS will be in 2023. The 2023 study will allow the U.S. to begin monitoring the progress of its students compared to that of other nations and to provide data on factors that may influence student computer and information literacy skills. The data collected through ICILS will provide valuable information with which to understand the nature and extent of the “digital divide” and has the potential to inform understanding of the relationship between technology skills and experience and student performance in other core subject areas. ICILS is conducted by the International Association for the Evaluation of Educational Achievement (IEA), an international collective of research organizations and government agencies that create the assessment framework, assessment, and background questionnaires. The IEA decides and agrees upon a common set of standards and procedures for collecting and reporting ICILS data, and defines the study timeline, all of which must be followed by all participating countries. As a result, ICILS is able to provide a reliable and comparable measure of student skills in participating countries. In the U.S., the National Center for Education Statistics (NCES) conducts this study and works with the IEA and RTI International to ensure proper implementation of the study and adoption of practices in adherence to the IEA's standards. Participation in ICILS will allow NCES to meet its mandate of acquiring and disseminating data on educational activities and student achievement in the United States compared with foreign nations [The Educational Sciences Reform Act of 2002 (ESRA 2002) 20 U.S.C. 9543]. The U.S. ICILS main study will be conducted from March through May 2023 and will involve a nationally-representative sample of at least 3,000 eighth-grade students from a minimum of 150 schools. Because ICILS is a collaborative effort among many parties, the United States must adhere to the international schedule set forth by the IEA, including the availability of final field test and main study plans as well as draft and final questionnaires. In order to meet the international data collection schedule and to align with recruitment for other NCES studies (e.g., TIMSS), approval for the main study sampling, recruitment, and data collection activities was approved in April 2022 (OMB# 1850-0929 v9). A 30D public comment period accompanied a set of revisions to the study timeline, study portal, main study contact materials, and the addition of COVID-related items in the questionnaires; those revisions were approved in October 2022 (OMB# 1850-0929 v10). This request is for approval of (1) updated descriptions of data collection plans; (2) updated burden estimates related to main study questionnaire changes; and (3) changes to the final adapted main study questionnaires based on review by IEA. This request is accompanied by 30 days of public comment. Changes are described below and are included in the supporting documentation.

Dated: December 9, 2022.
Juliana Pearson,
PRA Coordinator, Strategic Collections and Clearance, Governance and Strategy Division, Office of Chief Data Officer, Office of Planning, Evaluation and Policy Development.

[FR Doc. 2022-27108 Filed 12-13-22; 8:45 am]

BILLING CODE 4000-01-P